DEPARTMENT OF COMMERCE

National Oceanic and Atmospheric Administration

[Docket No. 001027302-0319-02]

RIN 0648-ZA-98

Sea Grant Technology Program: Request for Proposals for FY 2001

AGENCY: National Sea Grant College Program, National Oceanic and Atmospheric Administration, Department of Commerce.

ACTION: Notice of request for proposals.

SUMMARY: The purpose of this notice is to advise the public that the National Sea Grant College Program (Sea Grant) is entertaining preliminary proposals and subsequently full proposals for a technology transfer and development program to fulfill its broad responsibilities in fostering economic competitiveness through the transfer of technology pertaining to the development and utilization of ocean, coastal, and Great Lakes resources. In FY 2001, Sea Grant expects to provide about $950,000 to support projects that can accelerate the transfer of academic science and technology to the market. It is desirable that proposals, which must be submitted through state Sea Grant Programs, involve industrial partners. Matching funds equal to a minimum of 50% of the federal request must be provided. Successful projects will be selected through national competition.

DATES: Preliminary proposals must be submitted before 5 pm (local time) on February 15, 2001 to a state Sea Grant College Program. Preliminary proposals from non Sea Grant states, if submitted directly to the National Sea Grant Office, must be received by 5 pm (local time) on February 15, 2001. After evaluation at the National Sea Grant Office, some proposers will be encouraged to prepare full proposals, which must be submitted before 5 pm (local time) on April 24, 2001 to a state Sea Grant College Program or to the National Sea Grant Office. (See ADDRESSES for where to submit preliminary and full proposals.)

ADDRESSES: Preliminary proposals and full proposals originating in Sea Grant states must be submitted through the state Sea Grant Program. Preliminary proposals and full proposals originating elsewhere may be submitted either through the nearest Sea Grant Program or directly to the Program Manager at the National Sea Grant Office. The addresses of the Sea Grant College Program directors may be found on Sea Grant's home page (http://www.mdsg.umd.edu/NSGO/index.html) or may also be obtained by contacting the Program Manager at he National Sea Grant Office (see below).

FOR FURTHER INFORMATION CONTACT: Dr. Vijay G. Panchang, Program Manager, National Sea Grant College Program, R/SG, NOAA, 1315 East-West Highway, Silver Spring, MD 20910. Tel. (301) 713-2435 ext. 142; e-mail: Vijay.Panchang@noaa.gov.

SUPPLEMENTARY INFORMATION:

I. Progam Authority

Authority: 33 U.S.C. 1121-1131.

Catalog of Federal Domestic Assistance Number: 11.417, Sea Grant Support.

II. Program Description

Background

The ocean environment has traditionally provided an abundance of economic opportunities over a wide spectrum of activities. As a result of growing population pressures, the demands to maintain a sustainable and healthy environment, and ongoing scientific advancements, the economic potential afforded by the marine environment may be expected to increase. On the other hand, globalization has put unprecedented demands on US industry for innovation and the development of new technologies. Economic competitiveness can be fostered by creating opportunities for collaboration between industrial and academic scientists and engineers, as well as by supporting post-fundamental work to accelerate the conversion of academic research into products with commercial value.

The “National Sea Grant College Program Reauthorization Act of 1997” (33 U.S.C. 1121-1131) calls upon the National Sea Grant College Program (Sea Grant) to foster economic competitiveness, invest in technology transfer, and create partnerships between the Federal Government and universities, private industry, and other agencies in the development and utilization of marine resources. To meet these objectives, Sea Grant's technology program is meant to serve as a catalyst for scientific entrepreneurship and technology transfer and thereby enhance commerce. With at least one-third of the total cost provided as required matching funds by the grantee, Sea Grants expects to provide federal support of approximately $950,000 to support new projects in 2001. Projects selected for funding will be limited to 18 months duration and $150,000 of federal contributions.

Program Goals

To conduct focused projects that can lead to the development of marine and Great Lakes related technological innovations and their acceptance in the marketplace (both in the US and abroad); to increase interactions between the nation's academic scientists and engineers and their industrial counterparts; to stimulate Sea Grant's research and development activities in the physical sciences and engineering; to accelerate the transfer of research-based marine science from universities to new technologies in industry; to provide a mechanism for industry to influence Sea Grant research priorities and solve problems of importance to industry; and to forge long-term relationships between Sea Grant colleges and industrial firms.

Funding Priorities

The Sea Grant technology program provides support for applied research and development projects that ultimately facilitate the transfer of new products and processes that pertain to the development of marine technologies, including cost reductions for processes and product safety. In a true partnership that benefits national or regional economies, industrial cooperation in academic research and development efforts could be expected and such cooperation should be sought. University faculty are the major source for identifying potential industrial collaborators and suitable research topics. However, other sources can be used to identify potential industrial partners or user groups, such as the Sea Grant Marine Extension Program, university industrial relations offices, and the Sea Grant Review Panel. Sea Grant directors are encouraged to use a variety of sources in building successful partnerships with industry or other user groups.

Several types of projects will be considered under this announcement. These include, for example, the following:

(1) Additional developmental work that can accelerate the transition of academic research to maketplace acceptance or practice. For example, pilot-scale testing of technologies developed in academia may be necessary to establish economic feasibility. A private sector partner may or may not be identified. (If the work has imminent commercial implications and an industrial partner is involved, the partner is encouraged to provide matching funds.)

(2) A project which does not lead to a commercializable product per se, but is of mutual benefit to industry and academia. For example, if an industry sector anticipates future trends either due to market forces or government regulations, it may wish to prepare for them by developing technologies with help from academia. If there is actual transfer of technologies to industry, then participation by an industrial partner may be appropriate.

(3) Technology transfer or demonstration projects and workshops/forums given by academic researchers and mainly targeted to industry, involving registration or other fees paid by industry which can constitute industrial match.

(4) Technology transfer to user groups in government or other agencies that enhances cost-effectiveness of operations.

(Proposals that will be considered under this announcement are not limited to the above types of projects, which are given by way of example only.)

This announcement is intended to stimulate Sea Grant developments in the physical sciences and engineering. (See the Long Range Plan on Sea Grant's home page or that of the nearest Sea Grant College Program). Examples of possible project areas include:

1. Improved ocean observation technology and data management systems pertaining to a “digital ocean”, including predictive models of coastal/shoreline/basin ocean/lake circulation and sensors for currents/tides, marine contamination and water quality, storms/winds/waves, and other natural chemical/physical properties.

2. Marine weather prediction techniques for users in coastal regions.

3. Determining the extent and implications of shoreline erosion and developing new solutions (including social science approaches).

4. Sea level issues such as rise/fall, hazard analysis, etc.

5. Harbor/channel problems such as management for commercial, public, and private/recreational uses as well as engineering design and operations (e.g. improved techniques for dredging and spoil analysis/distribution, “intelligent” waterways and enhanced navigability, etc).

6. Improved wastewater treatment technologies to reduce coastal contamination.

7. Vessel design.

8. Life raft/lifesaving/rescue communications devices.

9. Material science in relation to the marine environment for structures, vessels, antifouling products, etc.

10. Programmable online robotic submersibles for marine observations.

11. Improvements in land use practice, watershed management, smart growth, risk analysis, etc.

The above list is not intended to be restrictive and projects covering other topics in the physical sciences and engineering are welcome. A match equal to at least one-half of the federal contribution is required for all proposals.

III. Eligibility

Proposals may be submitted by individuals, public or private corporations, partnerships, or other associations or entities (including institutions of higher education, institutes, or non-Federal laboratories), or any State, political subdivision of a State, or agency or officer thereof.

IV Evaluation Criteria

The evaluation criteria for proposals submitted for support under the Sea Grant Technology Program are:

A. Importance of the problem and the benefits expected to the nation due to the advancement of technology (30%).

B. Appropriateness of methodologies to be used (30%).

C. Potential for technology transfer to user groups such as industry and/or for enhanced economic value. Participation (especially matching contributions) by an industrial partner or other user groups will be viewed favorably (30%).

D. Qualifications of project participants (10%).

V. Selection Procedures

Preliminary proposals will be reviewed at the National Sea Grants Office (NSGO) by a panel composed of individuals from the federal government with expertise in industry/academic interactions and/or academia and industry.

The panel will be asked to assess each preliminary proposal based on the importance of the technology to the nation, the potential for technology transfer to user groups and/or enhanced economic value, and the qualifications of project participants from the viewpoint of the project. The panel will make individual recommendations to the Director of the NSGO regarding which preliminary proposals may be suitable for further consideration. On the basis of the panel's recommendations, the Director of the NSGO will advise proposers whether or not the submission of full proposals is encouraged. Invitation to submit a full proposal does not constitute an indication that the proposal will be funded. Interested parties who are not invited to submit full proposals will not be precluded from submitting full proposals if they have submitted a preliminary proposal in accordance with the procedures described below.

Individual state Sea Grant Programs receiving proposals will conduct the mail peer review of the proposed projects in accordance with the Evaluation Criteria listed above. Complete proposals and copies of the mail reviews will then be sent by the state Sea Grant programs to the National Sea Grant Office. The National Sea Grant Office will conduct mail reviews for proposals submitted directly to it by institutions not in Sea Grant states. The proposals will be ranked in accordance with the assigned weights of the above evaluation criteria by an independent peer review panel consisting of government, academic, and industry experts. These panel members will provide individual evaluations on each proposal; thus there will be no consensus advice.

Their recommendations and evaluations will be considered by the National Sea Grant Office in the final selection. Only those proposals awarded a minimum score of 50% by the panel will be eligible for funding. For those proposals, the National Sea Grant Office will: (a) Ascertain which proposals best meet the program goals (stated in Section II), and do not substantially duplicate other projects that are currently funded or are approved for funding by NOAA and other federal agencies, hence, awards may not necessarily be made to the highest-scored proposals; (b) select the proposals to be funded; (c) determine which components of the selected projects will be funded; (d) determine the total duration of funding for each proposal; and (e) determine the amount of funds available for each proposal.

Investigators may be asked to modify objectives, work plans, or budgets prior to final approval of the award. Subsequent grant administration procedures will be in accordance with current NOAA grants procedures. A summary statement of the scientific review by the peer panel will be provided to each applicant.

VI. Instructions for Application

Timetable

February 15, 2001, 5 pm (local time)—Preliminary proposals due at state Sea Grant Program, or at NSGO if application is being submitted by a non Sea Grant College Program.

February 20, 2001, 5 pm (local time)—Preliminary proposals received at state Sea Grant Programs due at NSGO.

April 24, 2001, 5 pm (local time)—Full proposals due at state Sea Grant Program, or at NSGO if application is being submitted by a non Sea Grant College Program.

May 1, 2001, 5 pm (local time)—Full proposals received at state Sea Grant Programs due at NSGO.

October 1, 2001 (approximate)—Funds awarded to selected recipients; projects begin.

General Guidelines

Interested parties must submit applications (preliminary proposals, and if invited, a full proposals) as follows. Applications originating in one of the 29 Sea Grant states must be submitted to the state's Sea Grant College Program, who will submit the final grant application to the National Sea Grant Office. Applications originating in a state with no Sea Grant College Program may be submitted to the nearest state Sea Grant College Program will then submit the final grant application to the National Sea Grant Office, or the application may be submitted directly to the National Sea Grant Office. Applications may be made for a grant to support up to two-thirds of the total budget. The project can be for a maximum of 18 months duration. No more than $150,000 of federal funds may be requested for the project. Allocation of matching funds, equal to at least half the federal request, must be specified in the budget.

What to Submit

Preliminary Proposal Guidelines

To prevent the expenditures of effort that may not be successful, proposers must first submit preliminary proposals. Preliminary proposals must be single- or double-spaced, typewritten in at least at 10-point font, and printed on metric A4 (210 mm x 297 mm) or 8½″ x 11″ paper. The following information should be included:

(1) Signed Title Page: The title page should be signed by the Principal Investigator and should clearly identify the program area being addressed by starting the project title with “Sea Grant Technology Program.” Principal Investigators and collaborators should be identified by affiliation and contact information. The total amount of Federal funds and matching funds being requested should be listed, as well as the source fo the matching funds. Preliminary proposals must include matching funds equivalent to at least 50% of the Federal funds requested.

(2) A concise (2-page limit) description of the project that addresses the following questions: What technology will be developed? How is it important to the nation? What fundamental work has been done that allows advancement of this technology to a more applied level? What are the anticipated economic benefits? Proposers should consult the Evaluation Criteria for additional guidance in preparing the preliminary proposals.

(3) Resumes (1-page limit) of the Principal Investigators.

(4) Proposers are encouraged (but not required) to include a separate page suggesting reviewers that the proposers believe are especially well-qualified to review the proposal. Proposers may also designate persons they would prefer not review the proposal, indicating why. These suggestions will be considered during the review process.

Three copies of the preliminary proposals must be submitted to the nearest state Sea Grant Program Director or to the NSGO Program Manger (as explained in “General Guidelines”) before 5 pm (local time) on February 15, 2001. Preliminary proposals received at the state Sea Grant Program offices must be forwarded by the Sea Grant Programs, along with a cover letter, to Dr. Vijay Panchang, Program Manger, at the address below so as to reach the National Sea Grant Office (NSGO) on or before 5 pm on February 20, 2001. No institutional signatures or federal government forms are needed while submitting preliminary proposals.

Full Proposal Guidelines

All pages should be single- or double-spaced, typewritten in at least a 10-point font, and printed on metric A4 (210 mm x 297 mm) or 8½″ x 11″ paper. Each full proposal should include the items listed below. Brevity will assist reviewers and program staff in dealing effectively with proposals. Therefore, the Project Description may not exceed 15 pages. Tables and visual materials, including charts, graphs, maps, photographs and other pictorial presentations are included in the 15-page limitation; literature citations are not included in the 15-page limitation. Conformance to the 15-page limitation will be strictly enforced. All information needed for review of the proposal should be included in the main text; no appendices are permitted.

(1) Signed Title Page: The title page should be signed by the Principal Investigator and the institutional representative and should clearly identify the program area being addressed by starting the project title with “Sea Grant Technology Program.” The Principal Investigator and institutional representative should be identified by full name, title, organization, telephone number and address. The total amount of Federal funds and matching funds being requested should be listed.

(2) Project Summary: This information is very important. Prior to attending the peer review panel meetings, some of the panelists may read only the project summary. Therefore, it is critical that the project summary accurately describe the research being proposed and convey all essential elements of the research. The project summary should include: 1. Title: Use the exact title as it appears in the rest of the application. 2. Investigators: List the names and affiliations of each investigator who will significantly contribute to the project. Start with the Principal Investigator. 3. Funding request for each year of the project, including matching funds if appropriate. 4. Project Period: Start and completion dates. Proposals should request a start date of October 1, 2001. 5. Project Summary: This should include the rationale for the project, the scientific or technical objectives and/or hypotheses to be tested, and a brief summary of work to be completed.

(3) Project Description (15-page limit):

(a) Introduction/Background/Justification: Subjects that the investigator(s) may wish to include in this section are: (i) Previous fundamental research and a description of what additional work is needed to enhance the economic value of this fundamental work; (ii) contributions that the study will make to the particular discipline or subject area; and (iii) significance of the proposed technology to the region and nation.

(b) Research or Technical Plan: (i) Objectives to be achieved, hypotheses to be tested; (ii) Experimental design and statistical analysis to be used; (iii) Plan of work, detailed methodology, collaboration with industry or other user groups (if appropriate), and a timetable for project activities; and (iv) Role of project personnel.

(c) Output/Anticipated Economic Benefits: This may be measured, for example, by patents or licenses; commercializable new products (e.g. products used in or obtained from marine engineering operations, computer models for simulation of marine processes, etc.); process improvements (e.g. harbor design or dredging procedures, biochemical engineering, etc.); corporate investments in academic research efforts; private sector job opportunities for students involved in the project.

(d) Coordination with other Program Elements: Describe any coordination with other agency programs or ongoing research efforts. Describe any other proposals that are essential to the success of this proposal.

(e) References and Literature Citations: Should be included but will not be counted in the 15 page project description limit.

(4) Budget and Budget Justification: There should be one cumulative budget for the entire project period. Applicants are encouraged to use the Sea Grant Budget Form 90-4, but may use their own form as long as it provides the same information as the Sea Grant form. Subcontracts should have a separate budget page. Matching funds must be indicated; failure to provide adequate matching funds will result in the proposal being rejected without review. The budget should include a separate budget justification page that itemizes all budget items in sufficient detail to enable reviewers to evaluate the appropriateness of the funding requested. Please pay special attention to any travel, supply or equipment budgets and provide details. Regardless of any approved indirect cost rate applicable to the award, the maximum dollar amount of allocable indirect costs for which the Department of Commerce will reimburse the Recipient shall be the lesser of: (a) The Federal share of the total allocable indirect costs of the award based on the negotiated rate with the cognizant Federal agency as established by audit or negotiation; or (b) The line item amount for the Federal share of indirect costs contained in the approved budget of the award.

(5) Current and Pending Support: Applicants must provide information on all current and pending Federal support for ongoing projects and proposals, including subsequent funding in the case of continuing grants. The proposed project and all other projects or activities using Federal assistance and requiring a portion of time of the principal investigator or other senior personnel should be included. The relationship between the proposed project and these other projects should be described, and the number of person-months per year to be devoted to the projects must be stated.

(6) Vitae (2 pages maximum per investigator).

(7) Letter of commitment from any industrial partner, if appropriate.

(8) A brief (one-page) description of the collaborating industrial firm, if appropriate.

(9) Standard Application Forms: Applicants may obtain all required application forms through the World wide Web at http://www.mdsg.umd.edu/NSGO/research/rfp/index.html, from the state Sea Grant Programs or from Dr. Vijay Panchang at the National Sea Grant Office (phone: 301-713-2435 x142 or e-mail: vijay.panchang@noaa.gov). The following forms must be included:

(a) Standard Forms 424, Applications for Federal Assistance, 424A, Budget Information—Non-Construction Programs; and 424B, Assurances—Non-Construction Programs, (Rev 4-88). Applications should clearly identify the program area being addressed by starting the project title with either as appropriate. Please note that both the Principal Investigator and an administrative contact should be identified in Section 5 of the SF424. For section 10, applicants should enter “11.417” for the CFDA Number and “Sea Grant Support” for the title. The form must contain the original signature of an authorized representative of the applying institution.

(b) Primary Applicant Certifications. All primary applicants must submit a completed Form CD-511, “Certifications Regarding Debarment, Suspension and Other Responsibility Matters; Drug-Free Workplace Requirements and Lobbying,” and the following explanations are hereby provided:

(i) Nonprocurement Debarment and Suspension. Prospective participants (as defined at 15 CFR part 26, section 105) are subject to 15 CFR part 26, “Nonprocurement Debarment and Suspension” and the related section of the certification form prescribed above applies;

(ii) Drug-Free Workplace. Grantees (as defined at 15 CFR part 26, section 605) are subject to 15 CFR part 26, subpart f, “Government wide Requirements for Drug-Free Workplace (Grants)” and the related section of the certification form prescribed above applies;

(iii) Anti-Lobbying. Persons (as defined at 15 CFR part 28, section 105) are subject to the lobbying provisions of 31 U.S.C. 1352, “Limitation on use of appropriated funds to influence certain Federal contracting and financial transactions,” and the lobbying section of the certification form prescribed above applies to applications/bids for grants, cooperative agreements, and contracts for more than $100,000, and loans and loan guarantees for more than $150,000; and

(iv) Anti-Lobbying Disclosures. Any applicant that has paid or will pay for lobbying using any funds must submit an SF-LLL, “Disclosure of Lobbying Activities,” as required under 15 CFR part 28, appendix B.

(c) Lower Tier Certifications. Recipients shall require applicants/bidders for subgrants, contracts, subcontracts, or other lower tier covered transactions at any tier under the award to submit, if applicable, a completed Form CD-512, “Certifications Regarding Debarment, Suspension, Ineligibility and Voluntary Exclusion—Lower Tier Covered Transactions and Lobbying” and disclosure form, SF-LLL, “Disclosure of Lobbying Activities.” Form CD-512 is intended for the use of recipients and should not be transmitted to the Department of Commerce (DOC). SF-LLL submitted by any tier recipient or subrecipient should be submitted to DOC in accordance with the instructions contained in the award documents.

VII. How to Submit

Preliminary proposals and proposals must be submitted to the state Sea Grant Programs or to the NSGO according to the schedule outlined above (See ADDRESSES and “Timetable”). Although investigators are not required to submit more than 3 copies of either preproposals or full proposals, the normal review process requires 10 copies. Investigators are encouraged to submit sufficient copies for the full review process if they wish all reviewers to receive color, unusually sized (not 8.5 x 11″), or otherwise unusual materials submitted as part of the proposal. Only three copies of the Federally required forms are needed. The addresses of the Sea Grant College Program directors may be found on Sea Grant's World Wide Web home page (http://www.mdsg.umb.edu/NSGO/index.html) or may also be obtained by contacting the Program Manager, Dr. Vijay Panchang, at the National Sea Grant Office (phone: 301-713-2435 x142 or e-mail: vijay.panchang@noaa.gov). Preproposals and proposals sent to the National Sea Grant Office should be addressed to: National Sea Grant Office, R/SG, Attn: Sea Grant Technology Program Coordinator, NOAA, Room 11828, 1315 East-West Highway, Silver Spring, MD 20910 (phone 301-713-2435 for express mail applications).

Applications received after the deadline and applications that deviate from the format described above will be returned to the sender without review. Facsimile transmissions and electronic mail submission of applications will not be accepted.

VIII. Other Requirements

(A) Federal Policies and Procedures—Recipients and subrecipients are subject to all Federal laws and Federal and Department of Commerce (DOC) policies, regulations, and procedures applicable to Federal financial assistance awards.

(B) Past Performance—Unsatisfactory performance under prior Federal awards may result in an application not being considered for funding.

(C) Preaward Activities—If applicants incur any costs prior to an award being made, they do so solely at their own risk of not being reimbursed by the Government. Notwithstanding any verbal or written assurance that may have been received, there is no obligation on the part of DOC to cover preaward costs.

(D) No Obligation for Future Funding—If an application is selected for funding, DOC has no obligation to provide any additional future funding in connection with that award. Renewal of an award to increase funding or extend the period of performance is at the total discretion of DOC.

(E) Delinquent Federal Debts—No award of Federal funds shall be made to an applicant who has an outstanding delinquent Federal debt until either:

(1) The delinquent account is paid in full,

(2) A negotiated repayment schedule is established and at least one payment is received, or

(3) Other arrangements satisfactory to DOC are made.

(F) Name Check Review—All non-profit and for-profit applicants are subject to a name check review process. Name checks are intended to reveal if any key individuals associated with the applicant have been convicted of or are presently facing criminal charges such as fraud, theft, perjury, or other matters which significantly reflect on the applicant's management honesty or financial integrity.

(G) False Statements—A false statement on an application is grounds for denial or termination of funds and grounds for possible punishment by a fine or imprisonment as provided in 18 U.S.C. 1001.

(H) Intergovernmental Review—Applications for support from the National Sea Grant College Program are not subject to Executive Order 12372, “Intergovernmental Review of Federal Programs.”

(I) Purchase of American-Made Equipment and Products—Applicants are hereby notified that they will be encouraged to the greatest extend practicable, to purchase American-made equipment and products with funding provided under the program.

Classification

Prior notice and an opportunity for public comments are not required by the Administrative Procedure Act or any other law for this notice concerning grants, benefits, and contracts. Therefore, a regulatory flexibility analysis is not required for purposes of the Regulatory Flexibility Act.

This action has been determined to be not significant for purposes of E.O. 12866.

This notice contains collection-of-information requirements subject to the Paperwork Reduction Act. The Sea Grant Project Summary Form and the Sea Grant Budget Form have been approved under Office of Management and Budget (OMB) Control Number 0648-0362, with estimated times per response of 20 and 15 minutes respectively. The use of Standard Forms 424, 424A, 424B, and SF-LLL have been approved by OMB under the respective control numbers 0348-0043, 0348-0044, 0348-0040, and 0348-0046. The response time estimates above include the time for reviewing instructions, searching existing data sources, gathering and maintaining the data needed, and completing and reviewing the collection of information. Send comments on these estimates or any other aspect of these collections to National Sea Grant Office/NOAA, 1315 East-West Highway, Silver Spring, MD 20910 and to the Office of Information and Regulatory Affairs, Office of Management and Budget, Washington, DC 20503 (Attention: NOAA Desk Officer).

Notwithstanding any other provision of the law, no person is required to respond to, nor shall any person be subject to a penalty for failure to comply with, a collection of information subject to the requirements of the Paperwork Reduction Act, unless that collection of information displays a currently valid OMB Control Number.

Dated: January 4, 2001.
David L. Evans,
Assistant Administrator, Office of Oceanic and Atmospheric Research, National Oceanic and Atmospheric Administration.

[FR Doc. 01-562 Filed 1-8-01; 8:45 am]

BILLING CODE 3510-KA-M